DEPARTMENT OF LABOR

Occupational Safety and Health Administration

[Docket No. OSHA-2018-0007]

National Advisory Committee on Occupational Safety and Health (NACOSH): Notice of Membership Meeting

AGENCY: Occupational Safety and Health Administration (OSHA), Labor.

ACTION: Announcement of a NACOSH meeting.

SUMMARY: NACOSH will meet on December 12, 2019, in Washington, DC.

DATES: NACOSH will meet from 9:30 a.m. to 4:00 p.m., ET, Thursday, December 12, 2019.

ADDRESSES: NACOSH will meet in Room N-5437, Conference Rooms A-D, U.S. Department of Labor, 200 Constitution Avenue NW, Washington, DC 20210.

Submission of comments and requests to speak: Submit comments and requests to speak at the NACOSH meeting by December 5, 2019, identified by the docket number for this Federal Register notice (Docket No. OSHA-2018-0007), using one of the following methods:

Electronically: You may submit comments, including attachments, electronically at: http://www.regulations.gov, the Federal eRulemaking Portal. Follow the online instructions for submitting comments.

Facsimile: If your comments, including attachments, do not exceed 10 pages, you may fax them to the OSHA Docket Office at (202) 693-1648.

Regular mail, express mail, hand delivery, and messenger or courier service: You may submit comments and attachments to the OSHA Docket Office, Docket No. OSHA-2018-0007, Occupational Safety and Health Administration, U.S. Department of Labor, Room N-3653, 200 Constitution Avenue NW, Washington, DC 20210. Deliveries (express mail, hand (courier) delivery, and messenger service) are accepted during the OSHA Docket Office's normal business hours, 10:00 a.m. to 3:00 p.m., ET.

Instructions: All submissions must include the agency name and the OSHA docket number for this Federal Register notice (Docket No. OSHA-2018-0007). Because of security-related procedures, submissions by regular mail may result in a significant delay in receipt. Please contact the OSHA Docket Office for information about security procedures for making submissions by express mail, hand (courier) delivery, and messenger service.

OSHA will place comments and requests to speak, including personal information, in the public docket, which may be available online. Therefore, OSHA cautions interested parties about submitting personal information such as Social Security numbers and birthdates.

Docket: To read or download documents in the public docket for this NACOSH meeting, go to http://www.regulations.gov. All documents in the public docket are listed in the index; however, some documents (e.g., copyrighted material) are not publicly available to read or download through http://www.regulations.gov. All submissions are available for inspection and, when permitted, copying at the OSHA Docket Office at the above address. For information on using http://www.regulations.gov to make submissions or to access the docket, click on the “Help” tab at the top of the homepage. Contact the OSHA Docket Office for information about materials not available through that website and for assistance in using the internet to locate submissions and other documents in the docket.

Requests for special accommodations: Please submit requests for special accommodations for this NACOSH meeting by December 5, 2019, to Ms. Carla Marcellus, OSHA, Technical Data Center, Room N-3508, U.S. Department of Labor, 200 Constitution Ave NW, Washington, DC 20210; telephone: (202) 693-2235; email: marcellus.carla@dol.gov.

FOR FURTHER INFORMATION CONTACT:

For press inquiries: Mr. Francis Meilinger, Director, OSHA Office of Communications; telephone (202) 693-1999 (TTY (877) 889-5627); email meilinger.francis2@dol.gov.

For general information about NACOSH: Ms. Michelle Walker, Director, OSHA Technical Data Center, Directorate of Technical Support and Emergency Management; telephone (202) 693-2350 (TTY (877) 889-5627); email walker.michelle@dol.gov.

For copies of this Federal Register Notice: Electronic copies of this Federal Register notice are available at http://www.regulations.gov. This notice, as well as news releases and other relevant information, are also available at OSHA's web page at www.osha.gov.

SUPPLEMENTARY INFORMATION:

I. Background

The Occupational Safety and Health Act of 1970 (OSH Act) (29 U.S.C. 651, 656) established NACOSH to advise, consult with, and make recommendations to the Secretary of Labor and the Secretary of Health and Human Services on matters relating to the administration of the OSH Act. NACOSH is a continuing advisory committee of indefinite duration.

NACOSH operates in accordance with the Federal Advisory Committee Act (FACA) (5 U.S.C. App. 2), its implementing regulations (41 CFR part 102-3), and OSHA's regulations on NACOSH (29 CFR part 1912a).

NACOSH is comprised of 12 members, all of whom the Secretary appoints. The Committee must meet at least two times a year (29 U.S.C. 656(a)(1)).

II. Meeting Information

Attending the meeting: NACOSH will meet on December 12, 2019, from 9:30 a.m. until approximately 4:00 p.m., ET. The Committee will meet at the U.S. Department of Labor, Frances Perkins Building, 200 Constitution Avenue NW, Washington, DC 20210 in Room N-5437, Conference Rooms A-D. Meeting attendees must use the visitor's entrance located at 3rd & C Streets NW.

Meeting agenda: The tentative agenda for the meeting includes:

1. An introduction and update from the Principal Deputy Assistant Secretary of Labor for Occupational Safety and Health on key OSHA initiatives, and

2. Remarks from the Director of the National Institute for Occupational Safety and Health.

Requests to speak at the NACOSH meeting: Attendees who want to address NACOSH at the meeting must submit a request to speak, as well as any written or electronic presentation by December 5, 2019, using one of the methods listed in the ADDRESSES section. The request must state the amount of time requested to speak; the interest you represent (e.g., business, organization, affiliation), if any; and a brief outline of your presentation. PowerPoint presentations and other electronic materials must be compatible with PowerPoint 2010 and other Microsoft Office 2010 formats.

OSHA will place comments and requests to speak, including personal information, in the public docket, which may be available online. Therefore, OSHA cautions interested parties about submitting personal information such as Social Security Numbers and birthdates.

Docket: To read or download documents in the public docket for this NACOSH meeting, go to http://www.regulations.gov. All documents in the public docket are listed in the index; however, some documents (e.g., copyrighted material) are not publicly available to read or download through http://www.regulations.gov. All submissions are available for inspection and, when permitted, copying at the OSHA Docket Office at the above address. For information on using http://www.regulations.gov to make submissions or to access the docket, click on the “Help” tab at the top of the homepage. Contact the OSHA Docket Office for information about materials not available through that website and for assistance in using the internet to locate submissions and other documents in the docket.

Authority and Signature

Loren Sweatt, Principal Deputy Assistant Secretary of Labor for Occupational Safety and Health, authorized the preparation of this notice under the authority granted by 5 U.S.C. App. 2; 29 U.S.C. 656; 29 CFR part 1912a; 41 CFR part 102-3; and Secretary of Labor's Order No. 1-2012 (77 FR 3912 (1/25/2012)).

Signed at Washington, DC, on November 6, 2019.
Loren Sweatt,
Principal Deputy Assistant Secretary of Labor for Occupational Safety and Health.

[FR Doc. 2019-24679 Filed 11-13-19; 8:45 am]

BILLING CODE 4510-26-P